DEPARTMENT OF TRANSPORTATION

Federal Highway Administration

Kapka Butte Sno-Park Construction

AGENCY: Western Federal Lands Highway Division, Federal Highway Administration, DOT.

ACTION: Notice of the Federal Highway Administration's designation as Joint-Lead Agency for the Kapka Butte Sno-Park Construction project.

SUMMARY: The FHWA is issuing this notice to advise the public that the FHWA is officially designated as the Joint-Lead Agency pursuant to 23 U.S.C. 139(c)(1) for the Kapka Butte Sno-Park Construction project which is being studied in an Environmental Impact Statement (EIS) under the National Environmental Policy Act (NEPA).

DATES: Comments concerning this notice must be received by 30 days following the date this notice appears in the Federal Register.

FOR FURTHER INFORMATION CONTACT: David K. Kennedy—Environmental Program Manager, Western Federal Lands Highway Division, 360-619-7967.

SUPPLEMENTARY INFORMATION: On January 2, 2009 the United States Forest Service (USFS) published a “Notice of Intent” in the Federal Register at (Federal Register/Vol. 74, No. 1/Friday, January 2, 2009/Notices) to develop an Environmental Impact Statement (EIS) for the Kapka Butte Sno-Park Construction project. FHWA is providing funding to the USFS, the Federal Lead Agency, for the proposed project. The project includes construction of a new sno-park to accommodate motorized and non-motorized trail use.

The proposed sno-park would be located on National Forest lands on the Deschutes National Forest between Kapka Butte and the junction of Forest Road 46 (Cascade Lakes Highway) and Forest Road 45 (Sunriver cutoff). The proposed sno-park area is located about 30 miles west of Bend, Oregon; it is located in Section 35, Township 18S, Range 9E.

(Catalog of Federal Domestic Assistance Program Number 20.205, Highway Planning and Construction. The regulations implementing Executive Order 12372 regarding intergovernmental consultation on Federal programs and activities apply to this program.)

Authority: 23 U.S.C. 139(l)(1).

Issued on: February 22, 2012.
David K. Kennedy,
Environmental Program Manager, Federal Highway Administration, Vancouver, Washington.

[FR Doc. 2012-4623 Filed 2-27-12; 8:45 am]

BILLING CODE P